DEPARTMENT OF COMMERCE

Foreign-Trade Zones Board

[S-98-2020]

Foreign-Trade Zone 98—Birmingham, Alabama; Application for Subzone; Signature Express Transport, LLC, Fairfield, Alabama

An application has been submitted to the Foreign-Trade Zones Board (the Board) by the City of Birmingham, Alabama, grantee of FTZ 98, requesting subzone status for the facility of Signature Express Transport, LLC, located in Fairfield, Alabama. The application was submitted pursuant to the provisions of the Foreign-Trade Zones Act, as amended (19 U.S.C. 81a-81u), and the regulations of the Board (15 CFR part 400). It was formally docketed on June 8, 2020.

The proposed subzone (1.43 acres) is located at 3601 Lloyd Nolan Parkway, Fairfield, Alabama. No authorization for production activity has been requested at this time. The proposed subzone would be subject to the existing activation limit of FTZ 98.

In accordance with the Board's regulations, Christopher Kemp of the FTZ Staff is designated examiner to review the application and make recommendations to the Executive Secretary.

Public comment is invited from interested parties. Submissions shall be addressed to the Board's Executive Secretary and sent to: ftz@trade.gov. The closing period for their receipt is July 22, 2020. Rebuttal comments in response to material submitted during the foregoing period may be submitted during the subsequent 15-day period to August 6, 2020.

A copy of the application will be available for public inspection in the “Reading Room” section of the Board's website, which is accessible via www.trade.gov/ftz.

For further information, contact Christopher Kemp at Christopher.Kemp@trade.gov or (202) 482-0862.

Dated: June 8, 2020.
Andrew McGilvray,
Executive Secretary.

[FR Doc. 2020-12705 Filed 6-11-20; 8:45 am]

BILLING CODE 3510-DS-P